COMMISSION ON CIVIL RIGHTS

Agenda and Notice of Public Meeting of the South Dakota Advisory Committee

AGENCY: Commission on Civil Rights.

ACTION: Announcement of public meeting.

SUMMARY: Notice is hereby given, pursuant to the provisions of the rules and regulations of the U.S. Commission on Civil Rights (Commission), and the Federal Advisory Committee Act (FACA), that the South Dakota State Advisory Committee to the Commission will convene a meeting on May 19, 2021 at 3:00 p.m. (CT). The purpose of the meeting is for final review and vote on the draft report on Maternal Mortality and Health Disparities of American Indian Women in South Dakota.

DATES: Wednesday, May 19, 2021 at 3:00 p.m. (CT).

ADDRESSES: Public Web Conference Registration Link (video and audio): https://bit.ly/3eoX6To; password, if needed: USCCR.

If Joining by Phone Only, Dial: 1-800-360-9505; access code: 199 390 2377.

FOR FURTHER INFORMATION CONTACT: Mallory Trachtenberg at mtrachtenberg@usccr.gov or by phone at (202) 809-9618.

SUPPLEMENTARY INFORMATION: The meeting is available to the public through the web link above. If joining only via phone, callers can expect to incur charges for calls they initiate over wireless lines, and the Commission will not refund any incurred charges. Individuals who are deaf, deafblind and hard of hearing may also follow the proceedings by first calling the Federal Relay Service at 1-800-877-8339 and providing the Service with conference details found through registering at the web link above. To request other accommodations, please email mtrachtenberg@usccr.gov at least 7 days prior to the meeting for which accommodations are requested.

Members of the public are entitled to make comments during the open period at the end of the meeting. Members of the public may also submit written comments; the comments must be received in the Regional Programs Unit within 30 days following the meeting. Written comments may be emailed to Mallory Trachtenberg at mtrachtenberg@usccr.gov. Persons who desire additional information may contact the Regional Programs Unit at (202) 809-9618. Records and documents discussed during the meeting will be available for public viewing as they become available at www.facadatabase.gov. Persons interested in the work of this advisory committee are advised to go to the Commission's website, www.usccr.gov, or to contact the Regional Programs Unit at the above phone number or email address.

Agenda

Wednesday, May 19, 2021 from 3:00 p.m. (ET)

I. Welcome and Roll Call

II. Announcements and Updates

III. Approval of Minutes

IV. Final Review and Vote on the Committee's Draft Report

V. Public Comment

VI. Next Steps

VII. Adjournment

Dated: April 22, 2021.
David Mussatt,
Supervisory Chief, Regional Programs Unit.

[FR Doc. 2021-08788 Filed 4-27-21; 8:45 am]

BILLING CODE P